Title 3—

The President

Proclamation 10312 of November 19, 2021

National Child's Day, 2021

By the President of the United States of America

A Proclamation

Our Nation's children are the kite strings that hold our national ambitions aloft—and it is our shared responsibility to make sure that they have every opportunity to thrive. On National Child's Day, we recommit ourselves to ensuring that every child in America has a fair shot at a bright future, regardless of the gender, race, ethnicity, or the zip code they are born into.

To support our Nation's children, it is imperative that we work to deliver equal access to quality child care and education, health care, good jobs with dignity, and a clean planet. That is why I am working with the Congress to pass my Administration's Build Back Better plan—a transformative investment in children, families, climate resilience, and the foundations of our economy. The Build Back Better Act is poised to deliver high-quality child care that all families can afford, universal access to preschool for all 3- and 4-year-olds, lower costs for higher education so that every child has an equal footing and opportunity to succeed, historic tax cuts for working families raising children, the largest expansion of affordable health care coverage since the Affordable Care Act, and the largest investment to fight climate change in American history.

This landmark legislation will help ensure that every child has a safer and healthier upbringing. It eases the cost burden of raising a family—delivering a tax cut directly into the pockets of working parents. It will help America once again set the pace around the world when it comes to educational attainment, reversing generations of underinvestment in our children's development and care. It will help us cut greenhouse gas emissions and reduce pollution so that our children can breathe clean air. With the Bipartisan Infrastructure Act—we will also deliver high-speed internet access to every American household and replace our Nation's lead water pipes so that every child can drink clean water at home and at school. I will also continue to make the case for establishing a paid family and medical leave program so no worker has to make the impossible choice between work and caring for themselves or a family member.

These historic bills build on the foundation we laid with the American Rescue Plan, which has set us on a course to reduce child poverty in America by nearly half. The law continues to deliver critical resources that have allowed our Nation's children to safely return to the classroom, and it provides essential tools to address the mental health needs of our children and much-needed relief to families to improve maternal and child health care.

We owe every child the opportunity to dream and flourish, supported by adults helping to make their dreams a reality. On National Child's Day, we reaffirm our commitment to uplift the children in our lives and in our communities. Their future is our future, and our Nation's success tomorrow relies on the care and investment we provide for our children today.

NOW, THEREFORE, I, JOSEPH R. BIDEN JR., President of the United States of America, by virtue of the authority vested in me by the Constitution and the laws of the United States, do hereby proclaim November 20, 2021, as National Child's Day. I call upon all government officials, educators, volunteers, and all the people of the United States of America to observe this day with appropriate programs, ceremonies, and activities.

IN WITNESS WHEREOF, I have hereunto set my hand this nineteenth day of November, in the year of our Lord two thousand twenty-one, and of the Independence of the United States of America the two hundred and forty-sixth.

[FR Doc. 2021-25799

Filed 11-23-21; 8:45 am]

Billing code 3395-F2-P